DEPARTMENT OF HEALTH AND HUMAN SERVICES

Centers for Disease Control and Prevention

Disease, Disability, and Injury Prevention and Control Special Emphasis Panel: Musculoskeletal Disorders: Prevention and Treatment, RFA OH-02-004

In accordance with section 10(a)(2) of the Federal Advisory Committee Act (Pub. L. 92-463), the Centers for Disease Control and Prevention (CDC) announces the following meeting:

Name: Disease, Disability, and Injury Prevention and Control Special Emphasis Panel (SEP): Musculoskeletal Disorders: Prevention and Treatment, RFA OH-02-004.

Times and Dates: 8 a.m.-8:30 a.m., March 12, 2002 (Open), 8:40 a.m.-5 p.m., March 12, 2002 (Closed), 8 a.m.-5 p.m., March 13, 2002 (Closed).

Place: Harbor Court Hotel, 550 Light Street, Baltimore MD 21202.

Status: Portions of the meeting will be closed to the public in accordance with provisions set forth in section 552b(c) (4) and (6), Title 5 U.S.C., and the Determination of the Director, Management Analysis and Services Office, CDC, pursuant to Public Law 92-463.

Matters To Be Discussed: The meeting will include the review, discussion, and evaluation of applications received in response to RFA OH-02-004.

CONTACT PERSON FOR MORE INFORMATION: Pervis Major, Ph.D., Scientific Review Administrator, National Institute for Occupational Safety and Health, CDC, 1095 Willowdale Road, M/S B228, telephone (304) 285-5979.

The Director, Management Analysis and Services Office has been delegated the authority to sign Federal Register notices pertaining to announcements of meetings and other committee management activities, for both the Centers for Disease Control and Prevention and the Agency for Toxic Substances and Disease Registry.

Dated: February 20, 2002.
Alvin Hall,
Acting Director, Management Analysis and Services Office, Centers for Disease Control and Prevention (CDC).

[FR Doc. 02-4508 Filed 2-25-02; 8:45 am]

BILLING CODE 4163-19-P